ENVIRONMENTAL PROTECTION AGENCY

[EPA-HQ-OAR-2005-0161; FRL 9534-4]

Information Collection Request Submitted to OMB for Review and Approval; Comment Request; Renewable Fuel Standard (RFS 2) Program (Renewal)

AGENCY: Environmental Protection Agency (EPA).

ACTION: Notice.

SUMMARY: The Environmental Protection Agency has submitted an information collection request (ICR), “Renewable Fuel Standard (RFS 2) Program (Renewal)” (EPA ICR No. 2333.03, OMB Control No. 2060-0640) to the Office of Management and Budget (OMB) for review and approval in accordance with the Paperwork Reduction Act (44 U.S.C. 3501 et seq.). This is a proposed extension of the ICR, which is currently approved through July 31, 2013. Public comments were previously requested via the Federal Register (78 FR 11870) on February 20, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before August 29, 2013.

ADDRESSES: Submit your comments, referencing Docket ID Number EPA-HQ-OAR-2005-0161 to (1) EPA online using www.regulations.gov (our preferred method), by email to a-and-r-Docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Geanetta Heard, Fuel Compliance Center, 6406J, Environmental Protection Agency, 1200 Pennsylvania Ave. NW., Washington, DC 20460; telephone number: 202-343-9017; fax number: 202-343-2800; email address: heard.geanetta@epa.gov.

SUPPLEMENTARY INFORMATION: Supporting documents which explain in detail the information that EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Abstract: EPA would like to continue to collect annual compliance reports from obligated parties, quarterly reports for all EPA Moderated Transaction System (EMTS) users, generation and assignment of Renewable Identification Numbers (RINs) quarterly reports from biofuels producers and importers, and third party disclosure reports from biofuel feedstock producers by way of the Agency's Central Data Exchange (CDX). The recordkeeping and reporting will allow EPA to monitor compliance with the RFS program. EPA informs respondents that they may assert claims of business confidentially for information they submit in accordance with 40 CFR 2.203.

Form Numbers: 5900-275 (RFSA101—RFS2 2011 Activity Report); 5900-276 (RFS0101—RFS2 2010 Activity Report); 5900-277 (RFG 1300—VOC Average Report); 5900-278 (RFS0901—RFS2 Production Outlook Report); 5900-279 (RFS0100 RFS Activity Report); 5900-280 (EMTS: RFS2 RIN Generation Report (Equivalent to RSF0400)); 5900-281 (RFS0201—RFS 1 Transaction Report); 5900-282 (RFS0301—RFS2 2010 Annual Compliance Report); 5900-283 (RFS0900—RFS2 Production Outlook Report); 5900-284 (RFS0200—RIN Transaction Report); 5900-285 (RFS0700—RFS2 Renewable Fuel Producer Co-Products); 5900-286 (RFS2 EMTS RIN Transaction Report); 5900-287 (RFS0103—RFS 2012 Q1 Activity Report); 5900-288 (RFS0104—RFS2 Activity Report); 5900-289 (RFS0701—RFS2 Renewable Fuel Producer Co-Producer); 5900-290 (RFS0601—RFS2 Renewable Fuel Producer Supplemental); 5900-291 (RFS0300—RFS2 Obligated Party Annual Compliance Report); 5900-292 (RFS0800—RFS2 Renewable Biomass Report); 5900-293 (RFS0801—RFS2 Renewable Biomass Report); 5900-294 (RFS0102—RFS2 2011 Activity Report); 5900-295 (RFS2 EPA Cellulosic Biofuel Waiver Credit Form); 5900-296 (RFS0303—RFS2 Annual Compliance Report).

Respondents/affected entities: Producers of renewable fuels, Importers, Obligated party, Parties who own RINs and Foreign Refiners.

Respondent's obligation to respond: Mandatory (42 U.S.C. 7414 and 7542).

Estimated number of respondents: 2,092,731 (total).

Frequency of response: Annually, Quarterly & Daily.

Total estimated burden: 608,220 hours (per year). Burden is defined at 5 CFR 1320.3(b).

Total estimated cost: $69,337,137 (per year), which includes no annualized capital or operation & maintenance costs.

Changes in the Estimates: There is a decrease of 812,913 hours in the total estimated respondent burden compared with the ICR currently approved by OMB. This decrease is due to adjustments to the estimates. At the onset of the RFS2 program, EMTS for RINs were not a feature of RFS1. For the new EMTS system, all parties who owned RINs were required to re-submit their application, disclose feedstock sources, prepare quarterly reports on RIN activity and submit annual compliance reports (obligated party only). Re-submittal provisions are no longer required, which will cause a decrease in total responses for this ICR. EMTS users will not be burdened to submit more reports in this information collection, unlike the previous. The total responses for industry decreased now that the final rule is no longer requiring re-submissions or quarterly reports for certain party members. To date, biofuels producers and importers are required to submit quarterly reports along with their third party disclosure on feedstock producers to EPA. All users of the EMTS system are required to submit quarterly RIN reports.

The number of respondents or users of the EMTS system has more than doubled due to the additional response burden for mapping foreign and domestic plantation/forest land owners and foreign biofuels feedstock producers, which was not reflected in the previous ICR reporting period. With an increase of respondents, total burden hours have decreased from 1,421,133 to 608,220 hours. The reduction is due to the fact that the EMTS system's automation structure helps users to prepare reports instantly, lessening the amount of time and cost needed to respond, even with more than a million added users.

John Moses,
Director, Collection Strategies Division.

[FR Doc. 2013-18198 Filed 7-29-13; 8:45 am]

BILLING CODE 6560-50-P